DEPARTMENT OF THE TREASURY

Office of the Comptroller of the Currency

Agency Information Collection Activities: Information Collection Renewal; Submission for OMB Review; Disclosure Requirements Associated With Supplementary Leverage Ratio

AGENCY: Office of the Comptroller of the Currency (OCC), Treasury.

ACTION: Notice and request for comment.

SUMMARY: The OCC, as part of its continuing effort to reduce paperwork and respondent burden, invites the general public and other federal agencies to take this opportunity to comment on a continuing information collection as required by the Paperwork Reduction Act of 1995 (PRA).

In accordance with the requirements of the PRA, the OCC may not conduct or sponsor, and the respondent is not required to respond to, an information collection unless it displays a currently valid Office of Management and Budget (OMB) control number.

The OCC is soliciting comment concerning the renewal of its information collection titled “Disclosure Requirements Associated with Supplementary Leverage Ratio.” The OCC also is giving notice that it has sent the collection to OMB for review.

DATES: Comments must be submitted on or before October 5, 2017.

ADDRESSES: Because paper mail in the Washington, DC area and at the OCC is subject to delay, commenters are encouraged to submit comments by email, if possible. Comments may be sent to: Legislative and Regulatory Activities Division, Office of the Comptroller of the Currency, Attention: 1557-0322, 400 7th Street SW., Suite 3E-218, Washington, DC 20219. In addition, comments may be sent by fax to (571) 465-4326 or by electronic mail to prainfo@occ.treas.gov. You may personally inspect and photocopy comments at the OCC, 400 7th Street SW., Washington, DC 20219. For security reasons, the OCC requires that visitors make an appointment to inspect comments. You may do so by calling (202) 649-6700 or, for persons who are deaf or hard of hearing, TTY, (202) 649-5597. Upon arrival, visitors will be required to present valid government-issued photo identification and submit to security screening in order to inspect and photocopy comments.

All comments received, including attachments and other supporting materials, are part of the public record and subject to public disclosure. Do not include any information in your comment or supporting materials that you consider confidential or inappropriate for public disclosure.

Additionally, please send a copy of your comments by mail to: OCC Desk Officer, 1557-0322, U.S. Office of Management and Budget, 725 17th Street NW., #10235, Washington, DC 20503 or by email to oira_submission@omb.eop.gov.

FOR FURTHER INFORMATION CONTACT: Shaquita Merritt, OCC Clearance Officer, (202) 649-5490, Legislative and Regulatory Activities Division, Office of the Comptroller of the Currency, 400 7th Street SW., Washington, DC 20219.

SUPPLEMENTARY INFORMATION: Under the PRA (44 U.S.C. 3501-3520), federal agencies must obtain approval from the OMB for each collection of information that they conduct or sponsor. “Collection of information” is defined in 44 U.S.C. 3502(3) and 5 CFR 1320.3(c) to include agency requests or requirements that members of the public submit reports, keep records, or provide information to a third party.

The OCC is requesting that OMB extend its approval of the following information collection:

Title: Disclosure Requirements Associated with Supplementary Leverage Ratio.

OMB Control No.: 1557-0322.

Description: All banking organizations that are subject to the agencies' advanced approaches risk-based capital rules (advanced approaches banking organizations), as defined in the 2013 revised capital rule,¹ are required to disclose their supplementary leverage ratios.² Advanced approaches banking organizations must report their supplementary leverage ratios on the applicable regulatory reports. These disclosures enhance the transparency and consistency of reporting requirements for the supplementary leverage ratio by all internationally active organizations.

¹ 12 CFR 3.100(b)(1).

² 12 CFR 3.10(c), 3.172(d), and 3.173.

Type of Review: Regular review.

Affected Public: National banks and federal savings associations that are subject to the OCC's advanced approaches risk-based capital rules.

Frequency of Response: Quarterly.

Estimated Number of Respondents: 15.

Total estimated Annual Burden: 300 hours.

The OCC issued a notice for 60 days of comment regarding this collection on June 5, 2017, 82 FR 25916. No comments were received. Comments continue to be invited on:

(a) Whether the collection of information is necessary for the proper performance of the functions of the OCC, including whether the information has practical utility;

(b) The accuracy of the OCC's estimate of the information collection burden;

(c) Ways to enhance the quality, utility, and clarity of the information to be collected;

(d) Ways to minimize the burden of the collection on respondents, including through the use of automated collection techniques or other forms of information technology; and

(e) Estimates of capital or start-up costs and costs of operation, maintenance, and purchase of services to provide information.

Dated: August 28, 2017.
Karen Solomon,
Deputy Chief Counsel, Office of the Comptroller of the Currency.

[FR Doc. 2017-18652 Filed 9-1-17; 8:45 am]

BILLING CODE 4810-33-P